DEPARTMENT OF THE INTERIOR

Bureau of Land Management

[LLCAD070000, L91310000.EI0000]

Notice of Intent To Prepare an Environmental Impact Statement for the Proposed West Chocolate Mountains Renewable Energy Evaluation Area, Imperial County, CA, and Possible Land Use Plan Amendment

AGENCY: Bureau of Land Management, Interior.

SUMMARY: In compliance with the National Environmental Policy Act (NEPA) of 1969, as amended and the Federal Land Policy and Management Act of 1976, as amended, the Bureau of Land Management (BLM) El Centro Field Office, El Centro, California, intends to prepare an Environmental Impact Statement (EIS) to consider an amendment to the California Desert Conservation Area (CDCA) Plan to identify whether lands within the West Chocolate Mountains area should be made available for geothermal, solar, or wind energy development. By this notice the BLM is announcing the beginning of the scoping process to solicit public comments and identify issues.

DATES: This notice initiates the public scoping process for the EIS and possible plan amendment. Comments on issues may be submitted in writing until March 12, 2010. The date(s) and location(s) of any scoping meetings will be announced at least 15 days in advance through local media and the BLM Web site at: http://www.blm.gov/ca/st/en/fo/cdd.html. In order to be considered in the Draft EIS, all comments must be received prior to the close of the scoping period or 15 days after the last public meeting, whichever is later. We will provide additional opportunities for public participation upon publication of the Draft EIS.

ADDRESSES: You may submit comments on issues and planning criteria related to the West Chocolate Mountains Renewable Energy Evaluation by any of the following methods:

• Web site: http://www.blm.gov/ca/st/en/fo/cdd.html.

• E-mail: cawestchocolate@ca.blm.gov.

• Fax: (951) 697-5299.

• Mail: ATTN: John Dalton, BLM California Desert District Office, 22835 Calle San Juan de Los Lagos, Moreno Valley, California 92553-9046.

Documents pertinent to this proposal may be examined at the California Desert District Office or the BLM's California State Office, 2800 Cottage Way, Sacramento, California 95825.

FOR FURTHER INFORMATION CONTACT: For further information and/or to have your name added to our mailing list, contact John Dalton, telephone (951) 697-5311; address BLM California Desert District Office, 22835 Calle San Juan de Los Lagos, Moreno Valley, CA 92553-9046; e-mail cawestchocloate@ca.blm.gov.

SUPPLEMENTARY INFORMATION: The focus of the EIS is to assess whether the 21,300 acres of BLM-managed lands within the West Chocolate Mountains Renewable Energy Evaluation Area should be made available for renewable energy development, including geothermal leasing, solar energy rights-of-way (ROWs), and wind energy ROWs. Through the analysis contained within the EIS, the BLM will consider whether all, a portion of, or no lands within the area should be leased for geothermal exploration and development, solar energy development through ROWs, or wind energy development through ROWs.

The approximately 21,300 acres of Federal lands that are the subject of this analysis are located in an area bordered by the Imperial/Riverside County line on the north, the Chocolate Mountains Aerial Bombing and Gunnery Range on the east, the Imperial Sand Dunes Recreation Area on the south, and the Imperial Valley agricultural belt on the west. The area is also east of the community of Niland and northeast of El Centro, California.

The purpose of the public scoping process is to determine relevant issues that will influence the scope of the environmental analysis, including alternatives, and guide the process for developing the EIS. The BLM has identified the following preliminary issues: Threatened and endangered species, special status species, vegetation communities, special area designations, visual resources, water quality and quantity, and areas of high potential for renewable energy development. By this notice, the BLM is complying with requirements in 43 CFR 1610.2(c) to notify the public of potential amendments to land use plans, predicated on the findings of the EIS.

The BLM will use and coordinate the NEPA commenting process to satisfy the public involvement process for Section 106 of the National Historic Preservation Act (16 U.S.C. 470f) as provided for in 36 CFR 800.2(d)(3). Native American Tribal consultations will be conducted, and Tribal concerns, including impacts on Indian trust assets, will be given due consideration. Federal, State, and local agencies, along with other stakeholders that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Thomas Pogacnik,
Deputy State Director, California.

[FR Doc. 2010-2841 Filed 2-9-10; 8:45 am]

BILLING CODE 4310-40-P